DEPARTMENT OF COMMERCE

National Oceanic and Atmospheric Administration

[I.D. 080205B]

Magnuson-Stevens Act Provisions; General Provisions for Domestic Fisheries; Application for Exempted Fishing Permits

AGENCY: National Marine Fisheries Service (NMFS), National Oceanic and Atmospheric Administration (NOAA), Commerce.

ACTION: Notification of a proposal for EFPs to conduct experimental fishing; request for comments.

SUMMARY: The Assistant Regional Administrator for Sustainable Fisheries, Northeast Region, NMFS (Assistant Regional Administrator) has made a preliminary determination that the subject Exempted Fishing Permit (EFP) application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow one commercial fishing vessel to conduct fishing operations that are otherwise restricted by the regulations governing the fisheries of the Northeastern United States. The EFP would allow for exemptions from the FMP as follows: The Gulf of Maine (GOM) Rolling Closure Areas and the minimum mesh size for trawl gear.

Regulations under the Magnuson-Stevens Fishery Conservation and Management Act require publication of this notification to provide interested parties the opportunity to comment on applications for proposed EFPs.

DATES: Comments must be received on or before August 23, 2005.

ADDRESSES: Written comments should be sent to Patricia A. Kurkul, Regional Administrator, NMFS, Northeast Regional Office, 1 Blackburn Drive, Gloucester, MA 01930. Mark the outside of the envelope “Comments on the GOM Rope Separator Trawl Study.” Comments may also be sent via fax to (978) 281-9135 or submitted via e-mail to: DA5-219@noaa.gov.

FOR FURTHER INFORMATION CONTACT: Mike Ruccio, Fishery Management Specialist, phone (978) 281-9104.

SUPPLEMENTARY INFORMATION:

An application for an EFP was submitted on July 20, 2005, by Dr. Pingguo He of the University of New Hampshire for the continuation of a Cooperative Research Partnership Initiative contract project. The primary goal of the research is to design and test a rope separator trawl that targets haddock and pollock while releasing cod and flounder in inshore western GOM waters. The intent of the researchers is that the experimental net, if successful, could be suitable for fishing using Category B Days at Sea in the future.

This EFP would be used to conduct the second phase of at-sea trials for the experimental trawl net. The first phase was conducted under a separate EFP. One vessel would conduct 12 days of at-sea trials consisting of three to four 1-hour tows per day. Additionally, researchers would use remote underwater video observation and acoustic gear geometry monitoring to assess the success of the net during at-sea trials. The design of the net would consist of a rope separator in place of the more common netting separator in order to simplify design and rigging; a large bottom escape area for cod, flatfishes, and benthos; and a raised fishing line running through long drop chains to further allow benthic species to escape. Researchers have requested a small mesh exemption to allow for the use of a second codend or a small-mesh cover to collect fish released from the trawl to assess the effectiveness of the separator trawl.

All specimens caught would be sampled and measured. All undersized fish would be returned to the sea as quickly as practical after measurement and examination. All legal-sized fish, within the possession limit, would be sold, with the proceeds returned to the project for the purposes of enhancing future research.

The study would take place from September 1, 2005, to July 30, 2006. The trials would occur between 43°20′ and 42°30′ N. lat. and west of 70°15′ W. long., excluding the Western GOM Closure Area.

The principal investigator has requested a small-mesh exemption to allow for the use of a second codend or a small mesh cover to collect fish released from the experimental trawl to assess the effectiveness of the separator trawl. An optimum mixture of haddock and cod is necessary for testing the experimental gear. The majority of field work is tentatively scheduled for fall 2005. Dr. He has requested exemptions from the GOM Rolling Closure Areas to allow for spring 2006 fishing, should weather, vessel availability, or haddock and cod abundance in the study area hinder completion of the fall 2005 survey schedule.

Authority: 16 U.S.C. 1801 et seq.

Dated: August 3, 2005.
Alan D. Risenhoover
Acting Director, Office of Sustainable Fisheries, National Marine Fisheries Service.

[FR Doc. E5-4242 Filed 8-5-05; 8:45 am]

BILLING CODE 3510-22-S